DEPARTMENT OF COMMERCE

National Oceanic and Atmospheric Administration

50 CFR Part 679

[I.D. 081303C]

Groundfish Fisheries of the Bering Sea and Aleutian Islands Area and the Gulf of Alaska; Public Hearings

AGENCY: National Marine Fisheries Service (NOAA Fisheries), National Oceanic and Atmospheric Administration (NOAA), Commerce.

ACTION: Public hearings on the revised Draft Alaska Groundfish Fisheries Programmatic Supplemental Environmental Impact Statement (PSEIS)

SUMMARY: NOAA Fisheries will hold five public meetings in Washington, D.C., Seattle, WA, and in Juneau, Kodiak and Anchorage, AK, in September and October 2003 for the purpose of answering questions and receiving public testimony on the PSEIS.

DATES: See SUPPLEMENTARY INFORMATION under the heading “Meeting Dates and Addresses” for the dates of the public meetings.

ADDRESSES: See SUPPLEMENTARY INFORMATION under the heading “Meeting Dates and Addresses” for the addresses of the public meetings.

FOR FURTHER INFORMATION CONTACT: Steven K. Davis, Programmatic SEIS Manager, Anchorage, AK, Phone: 907-271-3523.

SUPPLEMENTARY INFORMATION: On November 27, 2001, based on a review of public comment, NOAA Fisheries announced its intent to revise the Alaska Groundfish Fisheries draft PSEIS released in January 2001 (66 FR 59228, November 27, 2001). An extensive public involvement process has resulted in the adoption of new multi-objective policy alternatives which have been analyzed in the revised PSEIS.

The public comment period on the revised PSEIS is from August 29, 2003 until October 15, 2003. The public has the opportunity to submit comments on the document in one of three ways:

(1) Mail in a written comment letter to: National Marine Fisheries Service, Alaska Regional Office, P.O. Box 21668, Juneau, AK 99802, Attn: Lori Gravel;

(2) Submit a comment through the NOAA Fisheries e-Comments website, accessible at http://www.fakr.noaa.gov/sustainablefisheries/seis/default.com;

(3) Submit oral comments at one of the revised PSEIS public hearings.

Faxed comments will not be accepted.

NMFS has scheduled five public hearings on the revised PSEIS. The purpose of these meetings is to provide an opportunity for the public to ask questions on the revised PSEIS, as well as to submit formal oral testimony on the document during the comment period. Information on these meetings can also be found on the NOAA Fisheries Alaska Region's website at http://www.fakr.noaa.gov.

Meeting Dates and Addresses

The dates, times, locations, and telephone numbers of the hearings are as follows:

September 8, 2003, 1 p.m. - 4 p.m. Eastern daylight time - NOAA, Science Center Room, 1301 East-West Highway, Silver Spring, MD. Local Contact: Kim Marshall 301-713-2341.

September 11, 2003, 5 p.m. - 8 p.m. Pacific daylight time - Alaska Fisheries Science Center, 7600 Sand Point Way N.E., Bldg. 9, Seattle, WA. Local Contact: Dan Ito 206-526-4232.

September 17, 2003, 1 p.m. - 5 p.m. Alaska daylight time - National Marine Fisheries Service, Federal Building, 709 W. 9th Street, Room 445, Juneau, AK. Local Contact: Jim Hale: 907-586-7491.

September 24, 2003, 3 p.m. - 7 p.m. Alaska daylight time - Alaska Fisheries Science Center Kodiak Laboratory, Kodiak Fisheries research Center Conference Room, 301 Research Ct., Kodiak, AK. Local Contact: Tom Pearson 907-481-1780.

October 7, 2003, 5:30 p.m. - 8 p.m. - Sheraton Hotel, 401 E 6th Avenue, Anchorage, AK. Local Contact: Steven K. Davis 907-271-3523.

Special Accommodations

These meetings are physically accessible to people with disabilities. Requests for sign language interpretation or other auxiliary aids should be directed to Steven K. Davis at 907-271-3523 at least 7 working days prior to the meeting date.

Dated: August 14, 2003.
Bruce C. Morehead,
Acting Director, Office of Sustainable Fisheries, National Marine Fisheries Service.

[FR Doc. 03-21365 Filed 8-20-03; 8:45 am]

BILLING CODE 3510-22-S